DEPARTMENT OF TRANSPORTATION

Federal Aviation Administration

14 CFR Parts 27 and 29

[Docket No.: FAA-2006-25414; Amendment Nos. 27-44 and 29-51]

RIN 2120-AH87

Performance and Handling Qualities Requirements for Rotorcraft

Correction

In rule document E8-3817 beginning on page 10987 in the issue of Friday, February 29, 2008, make the following correction:

On page 10988, in the second column, in the footnotes section, “aircraft and its occupants, both direct and consequential, caused or contributed to by one or more failures, considering relevant adverse operations or environmental conditions.’ ARP4761 further states that, ‘for each failure condition, the analyst must assign probability requirements,‘ In existing” should read:

¹ 49 FR 44433 and 49 44436 respectively, November 6, 1984.

² 72 FR 142, Docket Number: FAA-2006-25414.

[FR Doc. Z8-3817 Filed 5-23-08; 8:45 am]

BILLING CODE 1505-01-D

DEPARTMENT OF JUSTICE

Antitrust Division

Notice Pursuant to the National Cooperative Research and Production Act of 1993—Ultrafine Grained Titanium for Near-Net Shape Forging—a Pathway to Titanium Market Expansion

Correction

In notice document E8-10139 appearing on page 26415, in the issue of Friday, May 9, 2008, make the following correction:

On page 26415, in the second column, in the second paragragh, in the third line, “ATI AIlvac” should read “ATI Allvac”.

[FR Doc. Z8-10139 Filed 5-23-08; 8:45 am]

BILLING CODE 1505-01-D

DEPARTMENT OF JUSTICE

Antitrust Division

Notice Pursuant to the National Cooperative Research and Production Act of 1993—Network Centric Operations Industry Consortium, Inc.

Correction

In notice document E8-10136 beginning on page 26414, in the issue of Friday, May 9, 2008, make the following correction:

On page 26414, in the third column, in the first paragraph, in the 17th line, “AEG SPIN S.A.” should read “ABG SPIN S.A.”.

[FR Doc. Z8-10136 Filed 5-23-08; 8:45 am]

BILLING CODE 1505-01-D